DEPARTMENT OF DEFENSE

Office of the Secretary

32 CFR Part 154

[Docket ID: DOD-2016-OS-0121]

RIN 0790-AJ55

Department of Defense Personnel Security Program Regulation

AGENCY: Office of the Under Secretary for Intelligence, DoD.

ACTION: Final rule.

SUMMARY: This final rule removes DoD's regulation concerning personnel security. The codified rule is outdated and no longer accurate or applicable as written. The rule does not impose obligations on members of the public that are not already imposed by statute. It paraphrases and summarizes relevant sources of law and does not substantively deviate from them.

DATES: This rule is effective on January 5, 2017.

FOR FURTHER INFORMATION CONTACT: Patricia Toppings at 571-372-0485.

SUPPLEMENTARY INFORMATION: DoD internal guidance concerning personnel security will continue to be published in DoD Manual 5200.02. Once the revision of DoD Manual 5200.02 is signed, a copy will be made available at http://www.dtic.mil/whs/directives/corres/pub1.html.

It has been determined that publication of this CFR part removal for public comment is impracticable, unnecessary, and contrary to public interest since it is based on removing DoD internal policies and procedures that are publically available on the Department's issuance Web site.

The removal of this rule will be reported in future status updates of DoD's retrospective review plan in accordance with the requirements in Executive Order 13563. DoD's full plan can be accessed at: http://www.regulations.gov/#!docketDetail;D=DOD-2011-OS-0036.

List of Subjects in 32 CFR Part 154

Classified information, Government employees, Investigations, Security measures.

PART 154—[REMOVED]

Accordingly, by the authority of 5 U.S.C. 301, 32 CFR part 154 is removed.

Dated: December 27, 2016.
Aaron Siegel,
Alternate OSD Federal Register Liaison Officer, Department of Defense.

[FR Doc. 2016-31756 Filed 1-4-17; 8:45 am]

BILLING CODE 5001-06-P